DEPARTMENT OF HEALTH AND HUMAN SERVICES

Food and Drug Administration

[Docket No. 01N-0370]

Preparation for ICH Meetings in Brussels, Belgium, Including Progress on Implementing of the Common Technical Document; Public Meeting; Cancellation

AGENCY: Food and Drug Administration, HHS.

ACTION: Notice.

SUMMARY: The Food and Drug Administration (FDA) is canceling the public meeting for the ICH meetings in Brussels, Belgium scheduled for October 5, 2001. The public meeting was announced in the Federal Register of September 7, 2001 (66 FR 46801). It will be rescheduled at a later date.

FOR FURTHER INFORMATION CONTACT: Kimberly Topper, Center for Drug Evaluation and Research (HFD-21), Food and Drug Administration, 5600 Fishers Lane, Rockville, MD 20857, 301-827-7001.

Dated: September 25, 2001.
Margaret M. Dotzel,
Associate Commissioner for Policy.

[FR Doc. 01-24528 Filed 9-26-01; 3:57 pm]

BILLING CODE 4160-01-S